DEPARTMENT OF ENERGY

Federal Energy Regulatory Commission

Combined Notice of Filings #1

Take notice that the Commission received the following electric rate filings:

Docket Numbers: ER10-1355-011.

Applicants: Southern California Edison Company.

Description: Triennial Market Power Analysis for Southwest Region of Southern California Edison Company.

Filed Date: 12/6/21.

Accession Number: 20211206-5259.

Comment Date: 5 p.m. ET 2/4/22.

Docket Numbers: ER18-2497-010.

Applicants: Lawrenceburg Power, LLC.

Description: Refund Report: Lawrenceburg Power, LLC Refund Report Informational Filing to be effective N/A.

Filed Date: 12/9/21.

Accession Number: 20211209-5133.

Comment Date: 5 p.m. ET 12/30/21.

Docket Numbers: ER20-1214-001.

Applicants: CHPE, LLC.

Description: CHPE LLC Open Solicitation Compliance Filing as required by FERC's May 29, 2020 order.

Filed Date: 12/9/21.

Accession Number: 20211209-5128.

Comment Date: 5 p.m. ET 12/30/21.

Docket Numbers: ER21-673-003.

Applicants: PA Solar Park II, LLC.

Description: ALJ Settlement: Errata to Interim Rate Filing to be effective 9/1/2021.

Filed Date: 11/4/21.

Accession Number: 20211104-5116.

Comment Date: 5 p.m. ET 12/15/21.

Docket Numbers: ER22-529-001.

Applicants: 299F2M WHAM8 SOLAR, LLC.

Description: Tariff Amendment: Corrected Tariff Record to be effective 12/3/2021.

Filed Date: 12/9/21.

Accession Number: 20211209-5161.

Comment Date: 5 p.m. ET 12/30/21.

Docket Numbers: ER22-539-000.

Applicants: EF Kenilworth LLC.

Description: Request to Approve Letter Agreement of EF Kenilworth LLC.

Filed Date: 11/26/21.

Accession Number: 20211126-5116.

Comment Date: 5 p.m. ET 12/17/21.

Docket Numbers: ER22-591-000.

Applicants: Public Service Company of Colorado.

Description: § 205(d) Rate Filing: 2021-12-08 PSC-USSC-Info Study-676-0.0.0 to be effective 12/9/2021.

Filed Date: 12/8/21.

Accession Number: 20211208-5197.

Comment Date: 5 p.m. ET 12/29/21.

Docket Numbers: ER22-592-000.

Applicants: Public Service Company of Colorado.

Description: § 205(d) Rate Filing: 2021-12-08 PSC-USSC-Info Study-677-0.0.0 to be effective 12/9/2021.

Filed Date: 12/8/21.

Accession Number: 20211208-5198.

Comment Date: 5 p.m. ET 12/29/21.

Docket Numbers: ER22-593-000.

Applicants: Assembly Solar I, LLC.

Description: § 205(d) Rate Filing: Service Agreement normal filing to be effective 12/8/2021.

Filed Date: 12/8/21.

Accession Number: 20211208-5199.

Comment Date: 5 p.m. ET 12/29/21.

Docket Numbers: ER22-594-000.

Applicants: Assembly Solar II, LLC.

Description: § 205(d) Rate Filing: Service Agreement normal filing to be effective 12/8/2021.

Filed Date: 12/8/21.

Accession Number: 20211208-5201.

Comment Date: 5 p.m. ET 12/29/21.

Docket Numbers: ER22-595-000.

Applicants: PJM Interconnection, L.L.C.

Description: § 205(d) Rate Filing: Original WMPA, Service Agreement No. 6254; Queue No. AD2-135 to be effective 11/23/2021.

Filed Date: 12/8/21.

Accession Number: 20211208-5202.

Comment Date: 5 p.m. ET 12/29/21.

Docket Numbers: ER22-596-000.

Applicants: Southwest Power Pool, Inc.

Description: § 205(d) Rate Filing: 2855R7 KMEA and Evergy Metro Meter Agent Agreement to be effective 12/1/2021.

Filed Date: 12/9/21.

Accession Number: 20211209-5030.

Comment Date: 5 p.m. ET 12/30/21.

Docket Numbers: ER22-597-000.

Applicants: Midcontinent Independent System Operator, Inc., American Transmission Company LLC.

Description: § 205(d) Rate Filing: Midcontinent Independent System Operator, Inc. submits tariff filing per 35.13(a)(2)(iii: 2021-12-09_SA 3126/3127 Termination of ATC-WEPCo PCAs_Juneautown to be effective 2/8/2022.

Filed Date: 12/9/21.

Accession Number: 20211209-5056.

Comment Date: 5 p.m. ET 12/30/21.

Docket Numbers: ER22-598-000.

Applicants: Arizona Public Service Company.

Description: Tariff Amendment: Service Agreement No. 380—Notice of Cancellation to be effective 2/8/2022.

Filed Date: 12/9/21.

Accession Number: 20211209-5064.

Comment Date: 5 p.m. ET 12/30/21.

Docket Numbers: ER22-599-000.

Applicants: The Connecticut Light and Power Company.

Description: Tariff Amendment: Cancellation of NRG Preliminary Design and Engineering Agreement to be effective 12/31/2021.

Filed Date: 12/9/21.

Accession Number: 20211209-5074.

Comment Date: 5 p.m. ET 12/30/21.

Docket Numbers: ER22-600-000.

Applicants: American Electric Power Service Corporation, Appalachian Power Company, Indiana Michigan Power Company, Kentucky Power Company, Kingsport Power Company, Ohio Power Company, Wheeling Power Company, PJM Interconnection, L.L.C.

Description: Compliance filing: American Electric Power Service Corporation submits tariff filing per 35: AEP submits PBOP informational filing per OATT Att. H-14B Pt II, Worksheet O to be effective N/A.

Filed Date: 12/9/21.

Accession Number: 20211209-5076.

Comment Date: 5 p.m. ET 12/30/21.

Docket Numbers: ER22-601-000.

Applicants: Midcontinent Independent System Operator, Inc., Great River Energy.

Description: § 205(d) Rate Filing: Midcontinent Independent System Operator, Inc. submits tariff filing per 35.13(a)(2)(iii: 2021-12-09_SA 3759 GRE-OTP T-T (Schuster Lake to Frazee) to be effective 12/10/2021.

Filed Date: 12/9/21.

Accession Number: 20211209-5124.

Comment Date: 5 p.m. ET 12/30/21.

Docket Numbers: ER22-602-000.

Applicants: Northern Indiana Public Service Company LLC.

Description: § 205(d) Rate Filing: Filing of a CIAC Agreement to be effective 1/3/2022.

Filed Date: 12/9/21.

Accession Number: 20211209-5146.

Comment Date: 5 p.m. ET 12/30/21.

Docket Numbers: ER22-603-000.

Applicants: Northern Indiana Public Service Company LLC.

Description: § 205(d) Rate Filing: Filing of a CIAC Agreement to be effective 1/3/2022.

Filed Date: 12/9/21.

Accession Number: 20211209-5157.

Comment Date: 5 p.m. ET 12/30/21.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2021.
Debbie-Anne A. Reese,
Deputy Secretary.

[FR Doc. 2021-27159 Filed 12-14-21; 8:45 am]

BILLING CODE 6717-01-P